DEPARTMENT OF ENERGY

Federal Energy Regulatory Commission

Combined Notice of Filings #2

Take notice that the Commission received the following exempt wholesale generator filings:

Docket Numbers: EG16-51-000.

Applicants: Ringer Hill Wind, LLC.

Description: Notice of Self-Certification of Exempt Wholesale Generator Status of Ringer Hill Wind, LLC.

Filed Date: 2/5/16.

Accession Number: 20160205-5166.

Comments Due: 5 p.m. ET 2/26/16.

Take notice that the Commission received the following electric rate filings:

Docket Numbers: ER15-746-003.

Applicants: RC Cape May Holdings, LLC.

Description: Compliance filing: Third Revised Rate Schedule Ferc No. 2 to be effective 10/1/2015.

Filed Date: 2/5/16.

Accession Number: 20160205-5172.

Comments Due: 5 p.m. ET 2/26/16.

Docket Numbers: ER16-581-001.

Applicants: ENGIE Portfolio Management, LLC.

Description: Tariff Amendment: Supplement to MBR Application & Request for Shortened Comment Period to be effective 2/17/2016.

Filed Date: 2/5/16.

Accession Number: 20160205-5202.

Comments Due: 5 p.m. ET 2/26/16.

Docket Numbers: ER16-582-001

Applicants: ENGIE Retail, LLC.

Description: Tariff Amendment: Supplement to MBR Application & Request for Shortened Comment Period to be effective 2/17/2016.

Filed Date: 2/5/16.

Accession Number: 20160205-5204.

Comments Due: 5 p.m. ET 2/26/16.

Docket Numbers: ER16-583-001.

Applicants: GDF SUEZ Energy Resources NA, Inc.

Description: Tariff Amendment: Supplement to MBR Application & Request for Shortened Comment Period to be effective 2/17/2016.

Filed Date: 2/5/16.

Accession Number: 20160205-5205.

Comments Due: 5 p.m. ET 2/26/16.

Docket Numbers: ER16-901-000.

Applicants: Southwest Power Pool, Inc.

Description: Section 205(d) Rate Filing: Revisions to Update Attachment AF—Frequently Constrained Areas to be effective 4/5/2016.

Filed Date: 2/5/16.

Accession Number: 20160205-5153.

Comments Due: 5 p.m. ET 2/26/16.

Docket Numbers: ER16-902-000.

Applicants: Voyager Wind I, LLC.

Description: Baseline eTariff Filing: MBR Application to be effective 4/6/2016.

Filed Date: 2/5/16.

Accession Number: 20160205-5182.

Comments Due: 5 p.m. ET 2/26/16.

Take notice that the Commission received the following public utility holding company filings:

Docket Numbers: PH16-4-000.

Applicants: New Jersey Resources Corporation.

Description: New Jersey Resources Corporation submits FERC 65-A Material Change in Facts of Exemption Notification.

Filed Date: 2/5/16.

Accession Number: 20160205-5174.

Comments Due: 5 p.m. ET 2/26/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2016.
Nathaniel J. Davis, Sr.,
Deputy Secretary.

[FR Doc. 2016-02758 Filed 2-10-16; 8:45 am]

BILLING CODE 6717-01-P